DEPARTMENT OF HEALTH AND HUMAN SERVICES

Indian Health Service

Office of Clinical and Preventive Services Funding Opportunity: National HIV Program for Enhanced HIV/AIDS Screening and Engagement in Care

Announcement Type: New.

Funding Announcement Number: HHS-2012-IHS-OCPS-HIV-0001.

Catalog of Federal Domestic Assistance Number: 93.933.

DATES: Key Dates:

Application Deadline Date: July 16, 2012.

Review Date: July 30, 2012.

Earliest Anticipated Start Date: September 1, 2012.

Signed Tribal Resolutions Due Date: July 30, 2012.

I. Funding Opportunity Description

Statutory Authority

The Indian Health Service (IHS) is accepting competitive cooperative agreement applications for the Office of Clinical and Preventive Services: National HIV Program for Enhanced HIV/AIDS Screening and Engagement in Care. This program is authorized under: the Snyder Act, 25 U.S.C. 13; the Transfer Act 42 U.S.C. 2001; and the Public Health Service Act, as amended, 42 U.S.C. 241. This program is described in the Catalog of Federal Domestic Assistance under 93.933.

Background

The IHS Office of Clinical and Preventive Services (OCPS), National Human Immunodeficiency Virus/Acquired Immunodeficiency Syndrome (HIV/AIDS) Program serves as the primary source for national advocacy, policy development, budget development, and allocation for clinical, preventive, and public health HIV/AIDS programs for the IHS, Area Offices, and Service Units. It provides leadership in articulating the clinical, preventive, and public health needs of American Indian/Alaska Native (AI/AN) communities and developing, managing, and administering program functions related to HIV/AIDS.

Purpose

The purpose of this IHS cooperative agreement is to meet community needs for the enhancement of HIV/AIDS testing activities and the provision of HIV/AIDS-related services among AI/AN people. Such programs are necessary to reduce the incidence of HIV/AIDS and improve quality of life for People Living with HIV/AIDS (PLWHA). The main goals are to: increase the number of AI/AN with awareness of his/her HIV status; and, improve engagement and retention in care among PLWHA. Awardee activities will seek to: increase access to HIV related services, reduce stigma, make HIV testing routine, and improve engagement in care. Emphasis should be placed on increasing routine HIV screening for adults as per 2006 Centers for Disease Control and Prevention (CDC) guidelines, provide pre- and post-test counseling (when indicated), and developing or deploying strategies for engaging PLWHA in appropriate, culturally responsive HIV-related care.

II. Award Information

Type of Award

Cooperative Agreement.

Estimated Funds Available

The total amount of funding identified for the current fiscal year FY 2012 is approximately $180,000. Individual award amounts are anticipated to be between $60,000 and $90,000. Competing and continuation awards issued under this announcement are subject to the availability of funds. In the absence of funding, the IHS is under no obligation to make awards that are selected for funding under this announcement.

Anticipated Number of Awards

Approximately two awards will be issued under this program announcement.

Project Period

The project period will be for five years and will run consecutively from September 1, 2012 to August 31, 2017.

Cooperative Agreement

In the Department of Health and Human Services (HHS), a cooperative agreement is administered under the same policies as a grant. The funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

Provide funded organizations with ongoing consultation and technical assistance to plan, implement, and evaluate each component of the comprehensive program as described under Recipient Activities above. Consultation and technical assistance will include, but not be limited to, the following areas:

(a) Interpretation of current scientific literature related to epidemiology, statistics, surveillance, Healthy People 2020 Objectives, and other HIV disease control activities;

(b) Design and implementation of program components (including, but not limited to, program implementation methods, surveillance, epidemiologic analysis, outbreak investigation, development of programmatic evaluation, development of disease control programs, and coordination of activities);

(c) Program management best practices;

(d) Conduct visits to assess program progress and mutually resolve problems, travel funding permitted and if needed; and

(e) Coordinate these activities with all IHS HIV activities on a national basis.

B. Grantee Cooperative Agreement Award Activities

• Assist AI/AN communities and Tribal organizations in increasing the number of AI/ANs with awareness of his/her HIV status. The grantee will assist and facilitate reporting of HIV diagnoses to local and State public health authorities in the region as required under existing public health statutes.

• Test at least one previously untested (not tested in the prior five years) patient for every $75.00 in cooperative agreement funds received, inclusive of all ancillary and indirect costs.

• Collaborate with national IHS programs by providing standardized, anonymous HIV surveillance data on a quarterly basis, and in identifying and documenting best practices for implementing routine HIV testing.

• Participate in the development of systems for sharing, improving, and disseminating aggregate HIV data at a national level for purposes of advocacy for AI/AN communities, Government Performance Results Act of 1993 (GPRA), Healthy People 2020 and other national-level activities.

• Develop or deploy services for PLWHA to engage or re-engage (link) them into appropriate medical care, including treatment and prevention services for comorbid conditions.

• Provide a three page mid-year report and no more than a ten page summary annual report at the end of each project year. The report should establish the impact and outcomes of various methods of implementing routine screening tried during the funding period.

III. Eligibility Information

1. Eligibility

This is a full competition.

Eligible Applicants must be one of the following:

i. An Indian Tribe as defined by 25 U.S.C. 1603(14);

ii. A Tribal organization as defined by 25 U.S.C. 1603(26); or

iii. An Urban Indian organization as defined by 25 U.S.C. 1603(29). Applicants must provide proof of non-profit status with the application, e.g. 501(c)(3).

Note: Please refer to Section IV.2 (Application and Submission Information/Subsection 2, Content and Form of Application Submission) for additional poof of applicant status documents required such as tribal resolutions, proof of non-profit status, etc.

2. Cost Sharing or Matching

The Indian Health Service does not require matching funds or cost sharing for grants or cooperative agreements.

3. Other Requirements

If application budgets exceed the highest dollar amount outlined under the “Estimated Funds Available” section within this funding announcement, your application will be considered ineligible and will not be reviewed for further consideration. IHS will not return your application to you. You will be notified by email or certified mail by the Division of Grants Management of this decision.

Tribal Resolution

Tribal Resolution—A tribal resolution is not required for Urban Indian organization applicants, however all applying Urban Indian organizations must provide proof of non-profit status and a letter from the Board of Directors authorizing the application. Board of Directors letters are required to accompany the application submission. This can be attached to the electronic application. An Indian Tribe that is proposing a project affecting another Indian Tribe must include resolutions from all affected Tribes to be served. Applications by Tribal organizations will not require a specific Tribal resolution if the current Tribal resolution(s) under which they operate would encompass the proposed grant activities. Draft resolutions are acceptable in lieu of an official resolution. However, an official signed Tribal resolution must be received by the Division of Grants Management (DGM) prior to the beginning of the Objective Review. If an official signed resolution is not received by July 30, 2012, the application will be considered incomplete, ineligible for review, and returned to the applicant without further consideration.

Proof of Non-Profit Status

Organizations claiming non-profit status must submit proof. A copy of the 501(c)(3) Certificate must be received with your application submission by the deadline due date of July 16, 2012.

Letters of Intent will not be required under this funding opportunity announcement.

Applicants submitting any of the above additional documentation after the initial application submission due date are required to ensure the information was received by the IHS by obtaining documentation confirming delivery (i.e. FedEx tracking, postal return receipt, etc.).

IV. Application and Submission Information

1. Obtaining Application Materials

The application package and detailed instructions for this announcement can be found at http://www.Grants.gov or http://www.ihs.gov/NonMedicalPrograms/gogp/index.cfm?module=gogp_funding.

Questions regarding the electronic application process may be directed to Paul Gettys at (301) 443-2114.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single spaced and not exceed 5 pages).

• Project Narrative (must not exceed 15 pages).

○ Background information on the Tribe.

○ Proposed scope of work, objectives, and activities that provide a description of what will be accomplished, including a one-page Timeframe Chart.

• Tribal Resolution or Tribal Letter of Support (Tribal Organizations only).

• Letter of Support from Organization's Board of Directors.

• 501(c)(3) Certificate (if applicable).

• Biographical sketches for all Key Personnel.

• Contractor/Consultant resumes or qualifications and scope of work.

• Disclosure of Lobbying Activities (SF-LLL).

• Copy of current Negotiated Indirect Cost rate (IDC) agreement (required) in order to receive IDC.

• Organizational Chart (optional).

• Documentation of current OMB A-133 required Financial Audit (if applicable).

Acceptable forms of documentation include:

○ Email confirmation from Federal Audit Clearinghouse (FAC) that audits were submitted; or

○ Face sheets from audit reports. These can be found on the FAC Web site:

http://harvester.census.gov/sac/dissem/accessoptions.html?submit=Go+To+Database.

Public Policy Requirements

All Federal-wide public policies apply to IHS grants with exception of the Discrimination policy.

Requirements for Project and Budget Narratives

A. Project Narrative: This narrative should be a separate Word document that is no longer than 15 pages and must: Be single-spaced, be type written, have consecutively numbered pages, use black type not smaller than 12 characters per one inch, and be printed on one side only of standard size 8-1/2″ x 11″ paper.

Be sure to succinctly answer all questions listed under the evaluation criteria (refer to Section V.1, Evaluation criteria in this announcement) and place all responses and required information in the correct section (noted below), or they will not be considered or scored. These narratives will assist the ORC in becoming more familiar with the grantee's activities and accomplishments prior to this possible grant award. If the narrative exceeds the page limit, only the first 15 pages will be reviewed. The 15-page limit for the narrative does not include the work plan, standard forms, Tribal resolutions, table of contents, budget, budget justifications, narratives, and/or other appendix items.

There are three parts to the narrative: Part A—Program Information; Part B—Program Planning and Evaluation; and Part C—Program Report. See below for additional details about what must be included in the narrative.

Part A: Program Information: 3 pages

Section 1: Needs.

Describe how the Indian Tribe has determined it has the administrative infrastructure to support activities to increase HIV/AIDS screening and assist individuals with accessing care. Explain any previous planning activities the Tribe has completed relevant to this or similar goals.

Part B: Program Planning and Evaluation: 5 pages

Section 1: Program Plans.

Describe fully and clearly the direction the Indian Tribe plans to take in the implementation of this program, including how the Tribe plans to demonstrate improved health and services to the community it serves. Include proposed timelines. The total timeline should be no longer than one page.

Section 2: Program Evaluation.

Describe fully and clearly the improvements that will be made by the awardee to manage the program and identify the anticipated or expected benefits for the Tribe or AI/AN people served.

Part C: Program Report: 7 pages

Section 1: Describe major Accomplishments.

Please identify and describe significant program achievements associated with the delivery of quality health services or outreach services in the past 24 months in implementing previous grants, cooperative agreements, or other related activities. Provide a comparison of the actual accomplishments to the goals established for the project period, or if applicable, provide justification for the lack of progress.

Section 2: Describe major Activities over the last 24 months.

Please identify and summarize recent major health related project activities of the work done during the project period.

B. Budget Narrative: This narrative must describe the budget requested and match the scope of work described the project narrative. The page limitation should not exceed 5 pages.

3. Submission Dates and Times

Applications must be submitted electronically through Grants.gov by 12:00 a.m., midnight Eastern Daylight Time (EDT) on July 16, 2012. Any application received after the application deadline will not be accepted for processing, nor will it be given further consideration for funding. You will be notified by the Division of Grants Management via email or certified mail of this decision.

If technical challenges arise and assistance is required with the electronic application process, contact Grants.gov Customer Support via email to support@grants.gov or at (800) 518-4726. Customer Support is available to address questions 24 hours a day, 7 days a week (except on Federal holidays). If problems persist, contact Paul Gettys, Division of Grants Management (DGM) (Paul.Gettys@ihs.gov) at (301) 443-5204. Please be sure to contact Mr. Gettys at least ten days prior to the application deadline. Please do not contact the DGM until you have received a Grants.gov tracking number. In the event you are not able to obtain a tracking number, call the DGM as soon as possible.

If an applicant needs to submit a paper application instead of submitting electronically via Grants.gov, prior approval must be requested and obtained (see Section IV.6 below for additional information). The waiver must be documented in writing (emails are acceptable), before submitting a paper application. A copy of the written approval must be submitted along with the hardcopy that is mailed to the DGM. Once your waiver request has been approved, you will receive a confirmation of approval and the mailing address to submit your application. Paper applications that are submitted without a waiver from the Acting Director of DGM will not be reviewed or considered further for funding. You will be notified via email or certified email of this decision by the Grants Management Officer of DGM. Paper applications must be received by the DGM no later than 5:00 p.m., EDT, on the application deadline date. Late applications will not be accepted for processing or considered for funding.

Other Important Due Dates:

Proof of Non-Profit Status: Due date July 30, 2012.

Tribal Resolution: Due date July 30, 2012.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

Applicants that receive a waiver to submit paper application documents must follow the rules and timelines that are noted below. The applicant must seek assistance at least ten days prior to the application deadline.

Applicants that do not adhere to the timelines for Central Contractor Registry (CCR) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, you must submit a request in writing (emails are acceptable) to GrantsPolicy@ihs.gov with a copy to Tammy.Bagley@ihs.gov. Please include a clear justification for the need to deviate from our standard electronic submission process.

• If the waiver is approved, the application should be sent directly to the DGM by the deadline date of July 16, 2012.

• Applicants are strongly encouraged not to wait until the deadline date to begin the application process through Grants.gov as the registration process for CCR and Grants.gov could take up to fifteen working days.

• Please use the optional attachment feature in Grants.gov to attach additional documentation that may be requested by the DGM.

• All applicants must comply with any page limitation requirements described in this Funding Announcement.

• After you electronically submit your application, you will receive an automatic acknowledgment from Grants.gov that contains a Grants.gov tracking number. The DGM will download your application from Grants.gov and provide necessary copies to the appropriate agency officials. Neither the DGM nor the National HIV/AIDS Program will notify applicants that the application has been received.

• Email applications will not be accepted under this announcement.

Dun and Bradstreet (D&B) Data Universal Numbering System (DUNS)

All IHS applicants and grantee organizations are required to obtain a DUNS number and maintain an active registration in the CCR database. The DUNS number is a unique 9-digit identification number provided by D&B which uniquely identifies your entity. The DUNS number is site specific; therefore, each distinct performance site may be assigned a DUNS number. Obtaining a DUNS number is easy, and there is no charge. To obtain a DUNS number, you may access it through http://fedgov.dnb.com/webform, or to expedite the process, call (866) 705-5711.

Effective October 1, 2010, all HHS recipients were asked to start reporting information on subawards, as required by the Federal Funding Accountability and Transparency Act of 2006, as amended (“Transparency Act”). Accordingly, all IHS grantees must notify potential first-tier subrecipients that no entity may receive a first-tier subaward unless the entity has provided its DUNS number to the prime grantee organization. This requirement ensures the use of a universal identifier to enhance the quality of information available to the public pursuant to the “Transparency Act.”

Central Contractor Registry (CCR)

Organizations that have not registered with CCR will need to obtain a DUNS number first and then access the CCR online registration through the CCR home page at https://www.bpn.gov/ccr/default.aspx (U.S. organizations will also need to provide an Employer Identification Number from the Internal Revenue Service that may take an additional 2-5 weeks to become active). Completing and submitting the registration takes approximately one hour to complete and your CCR registration will take 3-5 business days to process. Registration with the CCR is free of charge. Applicants may register online at https://www.bpn.gov/ccrupdate/NewRegistration.aspx.

Additional information on implementing the Transparency Act, including the specific requirements for DUNS and CCR, can be found on the IHS Grants Management, Grants Policy Web site: http://www.ihs.gov/NonMedicalPrograms/gogp/index.cfm?module=gogp_policy_topics.

V. Application Review Information

The instructions for preparing the application narrative also constitute the evaluation criteria for reviewing and scoring the application. Weights assigned to each section are noted in parentheses. The 15 page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 60 points is required for funding. Points are assigned as follows:

1. Criteria

A. Introduction and Need for Assistance (15 Points)

a. Define the project target population, identify unique characteristics, and describe the impact of HIV on the population.

b. Describe the gaps/barriers in HIV testing for the population.

c. Describe challenges to providing HIV care in the population.

d. Describe the cultural or sociological barriers of the target population in seeking or accessing services.

B. Project Objective(s), Work Plan and Approach (40 points)

a. Objectives

i. Describe the objectives of the program and how they will increase HIV screening in (self-reported) previously untested clients.

ii. Describe how the objectives of the program will improve linkages to care for PLWHA in the community.

b. Work Plan

i. Identify the proposed program activities and explain how these activities will increase and sustain HIV screening.

ii. Describe policy and procedure changes anticipated for testing implementation that include:

1. Support of CDC 2006 Revised Testing Recommendations.

2. Increasing community awareness of new HIV testing and support availability. Include activities meant to address and reduce stigma.

3. Reaching a wide range of persons including diverse age and sex categories. If specific groups will receive specific outreach, explain why and how.

4. Provide a clear timeline with quarterly milestones for project activities.

c. Approach

i. Describe how the program will ensure that clients receive their test results, particularly clients who test positive.

ii. Describe how the program will ensure that individuals with initial HIV positive test results will receive confirmatory tests. If you do not provide confirmatory HIV testing, you must provide a letter of intent or Memorandum of Understanding with an external laboratory documenting the process through which initial HIV positive test results will be confirmed.

iii. Describe the program strategies to linking seropositive patients to care and effectively engaging them in care.

iv. Describe the program procedures for reporting seropositive patients to the appropriate State(s).

v. Describe the program quality assurance strategies.

vi. Describe how the program will ensure client confidentiality.

vii. Describe how the program will ensure that services are culturally sensitive and relevant.

viii. Describe how the program will streamline procedures so as to reduce the overall cost per test administered.

C. Program Evaluation (20 points)

a. Grantee shall provide a plan for monitoring and evaluating implementation of HIV tests and identify best practices related to engagement and retention in care.

b. Evaluation planning must include reporting of the following:

i. Facility-level information on gender, age, and race/ethnicity of persons tested, with no personal identifiers.

ii. Number of HIV tests performed.

iii. Number of HIV tests performed in patients who self-report that they have previously been untested (in the last 5 years).

iv. Number of positive tests.

v. Number of positive tests confirmed.

vi. Number of newly diagnosed HIV infections.

vii. Number of persons with positive tests who receive their results.

viii. Number of persons with positive tests who are actively linked to HIV care, as defined by attendance of at least one medical appointment within three months of diagnosis.

ix. Measures in place to protect confidentiality.

c. Optional Measures:

i. Number of clients refusing testing due to previous knowledge of status.

ii. Sustainability measures undertaken to continue testing following the end of this funding.

D. Organizational Capabilities, Key Personnel and Qualifications (20 points)

This section outlines the broader capacity of the organization to complete the project outlined in the work plan. It includes the identification of personnel responsible for completing tasks and the chain of responsibility for successful completion of the project outlined in the work plan.

a. Describe the organizational structure.

b. Describe what equipment (i.e., phone, Web sites, etc.) and facility space (i.e., office space) will be available for use during the proposed project. Include information about any equipment not currently available that will be purchased throughout the agreement.

c. List key personnel who will work on the project.

i. Identify staffing plan, existing personnel and new program staff to be hired.

ii. In the appendix, include position descriptions and resumes for all key personnel. Position descriptions should clearly describe each position and duties indicating desired qualifications, experience, and requirements related to the proposed project and how they will be supervised. Resumes must indicate that the proposed staff member is qualified to carry out the proposed project activities and who will determine if the work of a contractor is acceptable.

iii. If the project requires additional personnel beyond those covered by the supplemental grant, (i.e., IT support, volunteers, interviewers, etc.), note these and address how these positions will be filled and, if funds are required, the source of these funds.

iv. If personnel are to be only partially funded by this supplemental grant, indicate the percentage of time to be allocated to this project and identify the resources used to fund the remainder of the individual's salary.

d. Capability.

i. Briefly describe the facility and user population.

ii. Describe the organization's ability to conduct this initiative through: Linkages to treatment and care: partnerships established to refer out of the facility as needed for specialized treatment, care, confirmatory testing (if applicable) and counseling services.

E. Categorical Budget and Budget Justification (5 points)

Provide a clear estimate of the project program costs and justification for expenses for the entire grant period. The budget and budget justification should be consistent with the tasks identified in the work plan. The budget focus should be on increasing and sustaining HIV testing services as well as supporting entry and retention into care.

a. A categorical budget (Form SF 424A, Budget Information Non-Construction Programs) completing each of the budget periods is requested.

b. Budget narrative that serves as justification for all costs, explaining why each line item is necessary or relevant to the proposed project. Include sufficient details to facilitate the determination of allowable costs.

c. Budget justifications should include a brief narrative for the second year.

d. If indirect costs are claimed, indicate and apply the current negotiated rate to the budget. Include a copy of the rate agreement in the appendix.

Multi-Year Project Requirements. Projects requiring second, third, fourth, and/or fifth year must include a brief project narrative and budget (one additional page per year) addressing the developmental plans for each additional year of the project.

Appendix Items

• Work plan, logic model and/or time line for proposed objectives.

• Position descriptions for key staff.

• Resumes of key staff that reflect current duties.

• Consultant or contractor proposed scope of work and letter of commitment (if applicable).

• Current Indirect Cost Agreement.

• Organizational chart(s) highlighting proposed project staff and their supervisors as well as other key contacts within the organization and key community contacts.

• Map of area to benefit project identifying where target population resides and project location(s). Include trails, parks, schools, bike paths and other such applicable information.

• Additional documents to support narrative (i.e. data tables, key news articles, etc.).

2. Review and Selection

Each application will be prescreened by the DGM staff for eligibility and completeness as outlined in the funding announcement. Incomplete applications and applications that are non-responsive to the eligibility criteria will not be referred to the Objective Review Committee (ORC). Applicants will be notified by DGM, via email or letter, to outline minor missing components (i.e., signature on the SF-424, audit documentation, key contact form) needed for an otherwise complete application. All missing documents must be sent to DGM on or before the due date listed in the email of notification of missing documents required.

To obtain a minimum score for funding by the Objective Review Committee, applicants must address all program requirements and provide all required documentation. Applicants that receive less than a minimum score will be considered to be “Disapproved” and will be informed via email or regular mail by the IHS Program Office of their application's deficiencies. A summary statement outlining the strengths and weaknesses of the application will be provided to each disapproved applicant. The summary statement will be sent to the Authorized Organizational Representative (AOR) that is identified on the face page (SF-424), of the application within 60 days of the completion of the Objective Review.

VI. Award Administration Information

1. Award Notices

The Notice of Award (NoA) is a legally binding document signed by the Grants Management Officer and serves as the official notification of the grant award. The (NoA) will be initiated by the DGM and will be mailed via postal mail or emailed to each entity that is approved for funding under this announcement. The NoA is the authorizing document for which funds are dispersed to the approved entities and reflects the amount of Federal funds awarded, the purpose of the grant, the terms and conditions of the award, the effective date of the award, and the budget/project period.

Disapproved Applicants

Applicants who received a score less than the recommended funding level for approval, 60 and were deemed to be disapproved by the Objective Review Committee, will receive an Executive Summary Statement from the IHS Program Office within 30 days of the conclusion of the ORC outlining the weaknesses and strengths of their application submitted. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of 1 year. If additional funding becomes available during the course of FY 2012, the approved application maybe re-considered by the awarding program office for possible funding. You will also receive an Executive Summary Statement from the IHS Program Office within 30 days of the conclusion of the ORC.

Note: Any correspondence other than the official NoA signed by an IHS Grants Management Official announcing to the Project Director that an award has been made to their organization is not an authorization to implement their program on behalf of IHS.

2. Administrative Requirements

Cooperative agreements are administered in accordance with the following regulations, policies, and OMB cost principles:

A. The criteria as outlined in this Program Announcement.

B. Administrative Regulations for Grants:

• 45 CFR part 92, Uniform Administrative Requirements for Grants and Cooperative Agreements to State, Local and Tribal Governments.

• 45 CFR, part 74, Uniform Administrative Requirements for Awards and Subawards to Institutions of Higher Education, Hospitals, and other Non-profit Organizations.

C. Grants Policy:

• HHS Grants Policy Statement, Revised 01/07.

D. Cost Principles:

• Title 2: Grant and Agreements, Part 225—Cost Principles for State, Local, and Indian Tribal Governments (OMB Circular A-87).

• Title 2: Grant and Agreements, Part 230—Cost Principles for Non-Profit Organizations (OMB Circular A-122).

E. Audit Requirements:

• OMB Circular A-133, Audits of States, Local Governments, and Non-profit Organizations.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) http://rates.psc.gov/ and the Department of Interior (National Business Center) http://www.aqd.nbc.gov/services/ICS.aspx. If your organization has questions regarding the indirect cost policy, please call (301) 443-5204 to request assistance.

4. Reporting Requirements

Grantees must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports.

The reporting requirements for this program are noted below.

A. Progress Reports

Program progress reports are required semi annually, within 30 days after the budget period ends. These reports must include a brief comparison of actual accomplishments to the goals established for the period, or, if applicable, provide sound justification for the lack of progress, and other pertinent information as required. A final report must be submitted within 90 days of expiration of the budget/project period.

B. Financial Reports

Federal Financial Report FFR (SF-425), Cash Transaction Reports are due 30 days after the close of every calendar quarter to the Division of Payment Management, HHS at: http://www.dpm.psc.gov. It is recommended that you also send a copy of your FFR (SF-425) report to your Grants Management Specialist. Failure to submit timely reports may cause a disruption in timely payments to your organization.

Grantees are responsible and accountable for accurate information being reported on all required reports: the Progress Reports and Federal Financial Report.

C. Federal Subaward Reporting System (FSRS)

This award may be subject to the Transparency Act subaward and executive compensation reporting requirements of 2 CFR part 170.

The Federal Funding Accountability and Transparency Act of 2006, as amended (“Transparency Act”), requires the Office of Management and Budget (OMB) to establish a single searchable database, accessible to the public, with information on financial assistance awards made by Federal agencies. The Transparency Act also includes a requirement for recipients of Federal grants to report information about first-tier subawards and executive compensation under Federal assistance awards.

Effective October 1, 2010 IHS implemented a Term of Award into all IHS Standard Terms and Conditions, NoAs and funding announcements regarding this requirement. This IHS Term of Award is applicable to all IHS grant and cooperative agreements issued on or after October 1, 2010, with a $25,000 subaward obligation dollar threshold met for any specific reporting period. Additionally, all new (discretionary) IHS awards (where the project period is made up of more than one budget period) and where: (1) the project period start date was October 1, 2010 or after and (2) the primary awardee will have a $25,000 subaward obligation dollar threshold during any specific reporting period will be required to conduct address the FSRS reporting. For the full IHS award term implementing this requirement and additional award applicability information, visit the Grants Management Grants Policy Web site at: http://www.ihs.gov/NonMedicalPrograms/gogp/index.cfm?module=gogp_policy_topics. Telecommunication for the hearing impaired is available at: TTY (301) 443-6394.

VII. Agency Contacts

1. Questions on the programmatic issues may be directed to: Lisa C. Neel, MPH, HIV Program Analyst, 801 Thompson Avenue, Suite 200, Rockville, MD 20852, 301-443-4305, Lisa.neel@ihs.gov.

2. Questions on grants management and fiscal matters may be directed to: Andrew Diggs, Grants Management Officer, 801 Thompson Avenue, TMP Suite 360, Rockville, MD 20852, 301-443-2262, Andrew.diggs@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: June 4, 2012.
Yvette Roubideaux,
Director, Indian Health Service.

[FR Doc. 2012-14891 Filed 6-18-12; 8:45 am]

BILLING CODE 4165-16-P